DEPARTMENT OF ENERGY

Federal Energy Regulatory Commission

[Docket No. RP04-42-000]

Southern Natural Gas Company; Notice of Technical Conference

September 20, 2007.

The Federal Energy Regulatory Commission's (Commission or FERC) September 27, 2006 Order in the above-captioned proceeding,¹ directed Southern Natural Gas Company (Southern) to file revised tariff sheets addressing the requirements of the Commission's Policy Statement issued in Docket No. PL04-3-000 concerning liquefiable hydrocarbon gas quality specifications, and directed that a technical conference be held to address issued raised by that filing. Southern filed pro forma tariff sheets on August 15, 2007.

¹ Southern Natural Gas Company, 116 FERC ¶ 61,295 (2006).

Take notice that a technical conference will be held on Monday, October 15, 2007, at 10 a.m. (EST), in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or 202-502-8659 (TTY), or send a fax to 202-208-2106 with the required accommodations.

All interested parties and staff are permitted to attend. For further information please contact Jacob Silverman at (202) 502-8445 or e-mail Jacob Silverman@ferc.gov.

Kimberly D. Bose,
Secretary.

[FR Doc. E7-18984 Filed 9-25-07; 8:45 am]

BILLING CODE 6717-01-P